DEPARTMENT OF THE INTERIOR

Fish and Wildlife Service

Establishment of the Palmyra Atoll National Wildlife Refuge

AGENCY: Fish and Wildlife Service, Interior.

ACTION: Notice.

SUMMARY: The Director of the U.S. Fish and Wildlife Service (we) approved the establishment of the Palmyra Atoll National Wildlife Refuge. Palmyra Atoll is a low-lying equatorial atoll in the Pacific Ocean that is a collection of islets, coral reefs, and waters that teem with wildlife.

DATES: This action was effective on January 18, 2001.

FOR FURTHER INFORMATION CONTACT: Charles Houghten with the U.S. Fish and Wildlife Service, (503) 231-6207.

SUPPLEMENTARY INFORMATION: The Palmyra Atoll National Wildlife Refuge will enable us to protect approximately 680 acres (275.30 hectares) of emergent lands, and approximately 515,232 acres (208,595.95 hectares) of submerged lands and associated waters, including approximately 16,094 acres (6,515.79 hectares) of coral reef habitat. The refuge boundary is the extent of the 12-nautical mile territorial sea. Privately owned emergent lands will be purchased from willing sellers. We will acquire submerged lands through a Secretarial Order transferring jurisdiction and control to us from the Office of Insular Affairs. The refuge establishment and management will allow us to conserve and recover endangered and threatened species, protect migratory birds and coral reef habitats, and contribute to the maintenance of the rich biological diversity of this remarkable atoll.

The authority to establish the Palmyra Atoll National Wildlife Refuge is found in the Endangered Species Act of 1976, as amended (16 U.S.C. 1531-1544). The transfer of jurisdiction and control of Palmyra, including the reefs and territorial waters surrounding the island, from the Office of Insular Affairs to the Fish and Wildlife Service will be accomplished by a Secretarial Order. We will manage Palmyra Atoll National Wildlife Refuge in accordance with the National Wildlife Refuge System Administration Act of 1966, as amended (16 U.S.C. 668dd-668ee).

We will, through the establishment of the refuge, establish a limited take marine preserve in the waters of the refuge. We will close the refuge to commercial fishing but will permit a low level of compatible recreational fishing for bonefishing and deep water sportfishing under programs that we will carefully manage to ensure compatibility with refuge purposes. We will manage the refuge for the conservation and management of native species of wildlife and fish and their habitats. Wildlife species identified as endangered or threatened will receive management priority, with a special emphasis on stewardship of endangered and threatened sea turtles, migratory seabirds that forage in the refuge waters, the coral reef, and pelagic wildlife. Management actions will include protection of the refuge waters and wildlife from commercial fishing activities, enhancement of the environment through the implementation of navigational guidelines and aids to navigation to protect the shallow reefs from maritime groundings, periodic monitoring surveys of coral reef environment, and periodic clearance of marine debris. Other management programs will include scientific research and monitoring.

In addition to compatible public fishing, we have developed opportunities to permit in designated portions of the atoll a limited level of compatible wildlife observation (in the form of SCUBA diving and snorkeling), environmental education and interpretation, and wildlife photography.

In compliance with our policy and the National Environmental Policy Act of 1969, as amended (42 U.S.C. 4321-4347), we distributed a draft Environmental Assessment, a draft Land Protection Plan, and a draft Conceptual Management Plan for a 30-day public review and comment period. We evaluated two alternatives for the protection and management of wildlife and habitat.

Based on the documentation contained in the revised Environmental Assessment, Land Protection Plan, and a Conceptual Management Plan, we signed a Finding of No Significant Impact on January 17, 2001. The Conceptual Management Plan will serve as an interim management plan until we develop a Comprehensive Conservation Plan.

Dated: January 18, 2001.
Jamie Rappaport Clark,
Director, U.S. Fish and Wildlife Service.

[FR Doc. 01-2149 Filed 1-23-01; 8:45 am]

BILLING CODE 4310-55-P